DEPARTMENT OF HEALTH AND HUMAN SERVICES

Centers for Disease Control and Prevention

Notice of Operations and Construction Meeting

The National Center for Environmental Health (NCEH) of the Centers for Disease Control and Prevention (CDC) announces the following meeting:

Name: Vessel Sanitation Program (VSP) Operations Manual and Construction Guidelines Review.

Time and Date: 9 a.m. to 4 p.m., August 23-26, 2004.

Place: Auditorium, Port Everglades Administration Building, 1850 Eller Drive, Fort Lauderdale, Florida 33316.

Status: Open to the public, limited by the space available. The meeting room accommodates approximately 100 people.

Purpose: From August 23-26, the Vessel Sanitation Program staff and cruise ship industry will review revisions to both the Vessel Sanitation Operations Manual 2000 (August 23-24) and the Recommended Ship Building Guidelines for Cruise Vessels Destined To Call on U.S. Ports (August 24-26).

Matters to be discussed:

• Revisions to the Vessel Sanitation Operations Manual 2000.

• Revisions to the Recommended Ship Building Guidelines for Cruise Vessels Destined To Call on U.S. Ports.

The official record of this meeting will remain open for a period of 15 days following the meeting (through September 10, 2004) so that additional materials or comments may be submitted to be made part of the record of the meeting.

Advanced registration is encouraged. Please provide the following information: Name, title, company name, mailing address, telephone number, facsimile number, and e-mail address to Lisa Beaumier at 770-488-7138, FAX 770-488-4127, or lbeaumier@cdc.gov.

If you need additional information, please contact Lisa Beaumier (contact information provided above).

The Director, Management Analysis and Services Office, has been delegated the authority to sign Federal Register notices pertaining to announcements of meetings and other committee management activities for both CDC and ATSDR.

Dated: July 16, 2004.
Alvin Hall,
Director, Management Analysis and Services Office, Centers for Disease Control and Prevention.

[FR Doc. 04-16672 Filed 7-21-04; 8:45 am]

BILLING CODE 4163-18-P